DEPARTMENT OF COMMERCE

National Oceanic and Atmospheric Administration

Availability of Seats for the Hawaiian Islands Humpback Whale National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Hawaiian Islands Humpback Whale National Marine Sanctuary Advisory Council (council): Native Hawaiian, Fishing, Education, Research (primary only), Hawai'i County, Kaua'i County, Maui County, Honolulu County (alternate only), Commercial Shipping (alternate only) and Youth/Student Seat (ages 14-17). Applicants are chosen based upon their particular expertise and experience in relation to the seat for which they are applying; community and professional affiliations; philosophy regarding the protection and management of marine resources; and possibly the length of residence in the area affected by the sanctuary. Applicants who are chosen as members should expect to serve two-year terms, pursuant to the council's charter.

DATES: Applications are due by 30 June 2012.

ADDRESSES: Application kits may be obtained from Joseph Paulin, 6600 Kalanianaole Hwy, Suite 301, Honolulu, HI 96825 or Joseph.Paulin@noaa.gov. Completed applications should be sent to the same address. Applications are also available on line at http://hawaiihumpbackwhale.noaa.gov.

FOR FURTHER INFORMATION CONTACT: Joseph Paulin, 6600 Kalanianaole Hwy, Suite 301, Honolulu, HI 96825 or Joseph.Paulin@noaa.gov or 808.397.2651 x 257.

SUPPLEMENTARY INFORMATION: The Hawaiian Islands Humpback Whale National Marine Sanctuary Advisory Council was established in March 1996 to assure continued public participation in the management of the sanctuary. Since its establishment, the council has played a vital role in the decisions affecting the Sanctuary surrounding the main Hawaiian Islands.

The council's nineteen voting members represent a variety of local user groups, as well as the general public.

The council is supported by five committees: An Executive Committee chaired by the Sanctuary Advisory Council Chair, a Research Committee chaired by the Research Representative, an Education Committee chaired by the Education Representative, a Conservation Committee chaired by the Conservation Representative, and a Native Hawaiian Committee chaired by the Native Hawaiian Representative, each respectively dealing with matters concerning research, education, resource protection, and Native Hawaiian Culture.

The council represents the coordination link between the sanctuary and the state and federal management agencies, user groups, researchers, educators, policy makers, and other various groups that help to focus efforts and attention on the humpback whale and its habitat around the main Hawaiian Islands.

The council functions in an advisory capacity to the sanctuary management and is instrumental in helping to develop policies and program goals, and to identify education, outreach, research, long-term monitoring, resource protection and revenue enhancement priorities. The council works in concert with the sanctuary management by keeping him or her informed about issues of concern throughout the sanctuary, offering recommendations on specific issues, and aiding in achieving the goals of the sanctuary within the context of marine programs and policies of Hawai'i.

Authority: 16 U.S.C. 1431, et seq.

(Federal Domestic Assistance Catalog Number 11.429 Marine Sanctuary Program)

Dated: May 1, 2012.
Daniel J. Basta,
Director, Office of National Marine Sanctuaries, National Ocean Service, National Oceanic and Atmospheric Administration.

[FR Doc. 2012-11032 Filed 5-8-12; 8:45 am]

BILLING CODE 3510-NK-M